DEPARTMENT OF LABOR

Occupational Safety and Health Administration

Maritime Advisory Committee on Occupational Safety and Health

AGENCY: Occupational Safety and Health Administration (OSHA), Labor.

ACTION: Reestablishment of the Maritime Advisory Committee for Occupational Safety and Health (MACOSH); appointment of Committee members; Amendment.

SUMMARY: In the July 31, 2003, Federal Register, OSHA published a notice reestablishing the Maritime Advisory Committee for Occupational Safety and Health (MACOSH) and appointing the committee members (68 FR 44970). Three names were inadvertently omitted. The notice is hereby amended to add the following names and organizations they represent: Peter Schmidt, State of Washington; Augustin Tellez, Seafarers International Union; and Charles I. Thompson III, Virginia International Terminals.

FOR FURTHER INFORMATION CONTACT: OSHA, Office of Communications, Room N-3647, U.S. Department of Labor, 200 Constitution Avenue, NW., Washington, DC 20210; Telephone: (202) 693-1999.

Authority

This document was prepared under the direction of John L. Henshaw, Assistant Secretary of Labor for Occupational Safety and Health, U.S. Department of Labor, 200 Constitution Avenue, NW., Washington, DC 20210.

The actions in this document are taken pursuant to sections 4, 6, and 8 of the Occupational Safety and Health Act of 1970 (29 U.S.C. 653, 655, 657), Secretary of Labor's Order No. 5-2002 (67 FR 65008), and 29 CFR part 1911.

Signed at Washington, DC, this 8th day of August, 2003.
John L. Henshaw,
Assistant Secretary of Labor.

[FR Doc. 03-20733 Filed 8-13-03; 8:45 am]

BILLING CODE 4510-26-M